DEPARTMENT OF THE INTERIOR

National Park Service

[NPS-WASO-NAGPRA-NPS0034488; PPWOCRADN0-PCU00RP14.R50000]

Notice of Inventory Completion: Wickliffe Mounds State Historic Site, Kentucky Department of Parks, Wickliffe, KY

AGENCY: National Park Service, Interior.

ACTION: Notice.

SUMMARY: The Wickliffe Mounds State Historic Site, Kentucky Department of Parks has completed an inventory of human remains, in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to the Wickliffe Mounds State Historic Site. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Wickliffe Mounds State Historic Site at the address in this notice by October 12, 2022.

FOR FURTHER INFORMATION CONTACT: Carla Hildebrand, Wickliffe Mounds State Historic Site, 94 Green Street, P.O. Box 155, Wickliffe, KY 42087, telephone (270) 335-3681, email carla.hildebrand@ky.gov.

SUPPLEMENTARY INFORMATION: Notice is here given in accordance with the Native American Graves Protection and Repatriation Act (NAGPRA), 25 U.S.C. 3003, of the completion of an inventory of human remains under the control of the Wickliffe Mounds State Historic Site, Kentucky Department of Parks, Wickliffe, KY. The human remains were removed from a “Mound in Kentucky,” reasonably believed to be the Wickliffe Mounds archeological site 15BA4 in Ballard County, KY.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Wickliffe Mounds State Historic Site professional staff in consultation with representatives of the Miami Tribe of Oklahoma; Quapaw Nation (previously listed as The Quapaw Tribe of Indians); Shawnee Tribe; The Chickasaw Nation; and The Osage Nation (previously listed as Osage Tribe) (hereafter referred to as “The Tribes”).

History and Description of the Remains

At an unknown date, human remains representing, at minimum, one individual were removed from a site reasonably believed to be the Wickliffe Mounds site (15BA4) in Ballard County, KY, based on the information provided when the human remains were donated to the Wickliffe Mounds State Historic Site, on August 25, 2021. The human remains are comprised of a skull and rib bone. No known individual was identified. No associated funerary objects are present.

Determinations Made by the Wickliffe Mounds State Historic Site, Kentucky Department of Parks

Officials of the Wickliffe Mounds State Historic Site, Kentucky Department of Parks have determined that:

• Pursuant to 25 U.S.C. 3001(9), the human remains described in this notice are Native American based on comparison to other known Native American skulls and teeth, and by the narrative provided to the museum by the donor.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Quapaw Nation (previously listed as The Quapaw Tribe of Indians); The Chickasaw Nation; and The Osage Nation (previously listed as Osage Tribe) (hereafter referred to as “The Tribes”).

• Treaties, Acts of Congress, or Executive Orders, indicate that the land from which the Native American human remains were removed is the aboriginal land of The Chickasaw Nation.

• Pursuant to 43 CFR 10.11(c)(1), the disposition of the human remains may be to The Tribes.

Additional Requestors and Disposition

Representatives of any Indian Tribe or Native Hawaiian organization not identified in this notice that wish to request transfer of control of these human remains should submit a written request with information in support of the request to Carla Hildebrand, Wickliffe Mounds State Historic Site, 94 Green Street, P.O. Box 155, Wickliffe, KY 42087, telephone (270) 335-3681, email carla.hildebrand@ky.gov, by October 12, 2022. After that date, if no additional requestors have come forward, transfer of control of the human remains to The Tribes may proceed.

The Wickliffe Mounds State Historic Site, Kentucky Department of Parks is responsible for notifying The Consulted Tribes that this notice has been published.

Dated: September 1, 2022.
Melanie O'Brien,
Manager, National NAGPRA Program.

[FR Doc. 2022-19615 Filed 9-9-22; 8:45 am]

BILLING CODE 4312-52-P